DEPARTMENT OF THE INTERIOR

National Park Service

36 CFR Chapter I

Negotiated Rulemaking Advisory Committee for Dog Management at Golden Gate National Recreation Area

AGENCY: National Park Service, Interior.

ACTION: Notice of meeting.

SUMMARY: Notice is hereby given, in accordance with the Federal Advisory Committee Act (Pub. L. 92-463, 86 Stat. 770, 5 U.S.C. App 1, section 10), of the seventh meeting of the Negotiated Rulemaking Advisory Committee for Dog Management at Golden Gate National Recreation Area (GGNRA).

DATES: The Committee will meet on Saturday, October 27, 2007 at GGNRA Headquarters, Bldg. 201, Upper Fort Mason, in San Francisco, CA. The meeting will begin at 9 a.m., and is open to the public.

Although the Committee may modify its agenda during the course of its work, the proposed agenda for this meeting is as follows: introductions, approval of the meeting summary from the previous meeting, update on outstanding issues and activities since the previous full committee meeting, discussion on findings from the Technical Subcommittee, discussion of potential dog management recommendations, update on NEPA process and schedule, identification and discussion of possible next steps for the committee, and public comment.

The Committee provides for a public comment period during the meeting; written comments may also be sent to: Superintendent, GGNRA, Ft. Mason, Bldg. 201, San Francisco, CA 94123, Attn: Negotiated Rulemaking. Before including your address, phone number, e-mail address, or other personal identifying information in your comment, you should be aware that your entire comment—including your personal identifying information—may be made publicly available at any time. While you can ask us in your comment to withhold your personal identifying information from public review, we cannot guarantee that we will be able to do so.

To request a sign language interpreter, please call the park TDD line (415) 556-2766, at least a week in advance of the meeting. Please note that federal regulations prohibit pets in public buildings, with the exception of service animals.

FOR FURTHER INFORMATION CONTACT: Go to the http://www.parkplanning.nps.gov/goga and select Negotiated Rulemaking for Dog Management at GGNRA or call the project information line at 415-561-4728.

SUPPLEMENTARY INFORMATION: The Committee was established pursuant to the Negotiated Rulemaking Act of 1990 (5 U.S.C. 561-570) to consider developing a special regulation for dogwalking at GGNRA.

Dated: October 7, 2007.
Bernard C. Fagan,
Acting Chief, Office of Policy.

[FR Doc. E7-20134 Filed 10-11-07; 8:45 am]

BILLING CODE 4312-52-P